COMMISSION ON CIVIL RIGHTS

Notice of Public Meeting of the North Carolina Advisory Committee

AGENCY: U.S. Commission on Civil Rights.

ACTION: Notice of meeting.

SUMMARY: Notice is hereby given, pursuant to the provisions of the rules and regulations of the U.S. Commission on Civil Rights (Commission) and the Federal Advisory Committee Act that the North Carolina Advisory Committee will hold a meeting on Friday, June 29, 2016, at 12 p.m. EST for the purpose of discussing and voting on potential summary memorandum project and to discuss a draft report on environmental justice issues in the state.

DATES: The meeting will be held on Wednesday, June 29, 2016 at 12 p.m. EST.

SUPPLEMENTARY INFORMATION: Members of the public can listen to the discussion. This meeting is available to the public through the following toll-free call-in number: 888-455-2296, conference ID: 6491793. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are invited to make statements to the Committee during the scheduled open comment period. In addition, members of the public may submit written comments; the comments must be received in the regional office by June 25, 2016. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, North Carolina Advisory Committee link. Persons interested in the work of this Committee are directed to the Commission's Web site, http://www.usccr.gov, or may contact the Southern Regional Office at the above email or street address.

Agenda

• Welcome/Member participation roll call—Jeff Hinton, Regional Director; Matty Lazo-Chadderton, Chairman—NC SAC

• North Carolina Advisory Committee discussion and vote on potential summary memorandum project (Coal Ash) to the U.S. Commission on Civil Rights—Matty Lazo-Chadderton, Chair/Staff/Advisory Committee

• Public Participation

• Adjournment

Public Call Information

Toll-free call-in number: 888-455-2296,

Conference ID: 6491793.

Dated: June 13, 2016.
David Mussatt,
Chief, Regional Programs Unit.

[FR Doc. 2016-14268 Filed 6-22-16; 8:45 am]

BILLING CODE 6335-01-P